DEPARTMENT OF ENERGY

Federal Energy Regulatory Commission

[Project No. 11566-000-Maine]

Ridgewood Maine Hydro Partners, L.P.; Notice of Availability of Final Environmental Assessment

July 24, 2002.

In accordance with the National Environmental Policy Act of 1969 and the Federal Energy Regulatory Commission's (Commission) regulations, 18 CFR part 380 (Order No. 486,52 FR 47879), the Office of Energy Projects has reviewed the application for an original license for the Damariscotta Mills Project, located on the Damariscotta River, in Lincoln, County, Maine, and has prepared an Environmental Assessment (EA) for the project. There are no Federal lands occupied by the project works or located within the project boundary. In the EA, the Commission staff has concluded that approval of the proposed project, with appropriate mitigation measures, would not constitute a major Federal action significantly affecting the quality of the human environment.

Copies of the EA are available for review in the Public Reference Branch, Room 2-A, of the Commission's offices at 888 First street, NE., Washington, DC 20426. The EA may also be viewed on the Web at http://www.ferc.gov using the “RIMS” link-select “Docket#” and follow the instructions (call 202-208-2222 for assistance).

Linwood A. Watson, Jr.,
Deputy Secretary.

[FR Doc. 02-19206 Filed 7-29-02; 8:45 am]

BILLING CODE 6717-01-P